DEPARTMENT OF STATE

[Public Notice 8302]

Issuance of a Presidential Permit Authorizing the State of Michigan To Construct, Connect, Operate, and Maintain at the Border of the United States a Bridge Linking Detroit, Michigan, and Windsor, Ontario

AGENCY: Department of State.

ACTION: Correction of Date in Summary Paragraph

SUMMARY: The Department of State published a document in the Federal Register of April 18, 2013 concerning the issuance of a Presidential Permit. The summary section incorrectly stated that the permit issued on April 11, 2013 when, in fact, the permit issued on April 12, 2013.

FOR FURTHER INFORMATION CONTACT: Josh Rubin, Canada Border Affairs Officer, via email at WHACanInternal@state.gov, by phone at 202 647-2256 or by mail at Office of Canadian Affairs—Room 1329, Department of State, 2201 C St. NW., Washington, DC 20520.

Correction

In the Federal Register of April 18, 2013, in FR 78, 23327, in the first sentence of the summary paragraph, correct the permit's date of issuance to read: The Department of State issued a Presidential Permit to the State of Michigan on April 12, 2013, authorizing the permitee to construct, connect, operate and maintain at the border of the United States a bridge linking Detroit, Michigan and Windsor, Ontario.

Dated: April 24, 2013.
Elizabeth Martinez,
Director, Office of Canadian Affairs.

[FR Doc. 2013-10280 Filed 4-30-13; 8:45 am]

BILLING CODE 4710-29-P